Memorandum of October 17, 2014

Providing an Order of Succession Within the Social Security Administration

Memorandum for the Commissioner of the Social Security Administration

By the authority vested in me as President by the Constitution and the laws of the United States of America, including the Federal Vacancies Reform Act of 1998, 5 U.S.C. 3345 et seq. (the “Act”), it is hereby ordered that:

Section 1. Order of Succession. Subject to the provisions of section 2 of this memorandum, and to the limitations set forth in the Act, the following officials of the Social Security Administration, in the order listed, shall act as and perform the functions and duties of the office of the Commissioner of Social Security (Commissioner), during any period in which both the Commissioner and Deputy Commissioner of Social Security have died, resigned, or become otherwise unable to perform the functions and duties of the office of Commissioner:

(a) Deputy Commissioner for Operations;

(b) Deputy Commissioner for Budget, Finance, Quality, and Management;

(c) Deputy Commissioner for Systems;

(d) Regional Commissioner, Atlanta; and

(e) Regional Commissioner, Dallas.

Sec. 2. Exceptions. (a) No individual who is serving in an office listed in section 1 of this memorandum in an acting capacity, by virtue of so serving, shall act as Commissioner pursuant to this memorandum.

(b) No individual listed in section 1 of this memorandum shall act as Commissioner unless that individual is otherwise eligible to so serve under the Act.

(c) Notwithstanding the provisions of this memorandum, the President retains discretion, to the extent permitted by law, to depart from this memorandum in designating an acting Commissioner.

Sec. 3. Revocation. The Presidential Memorandum of October 17, 2008 (Designation of Officers of the Social Security Administration to Act as the Commissioner of Social Security), is hereby revoked.

Sec. 4. General Provisions. (a) This memorandum is not intended to, and does not, create any right or benefit, substantive or procedural, enforceable at law or in equity by any party against the United States, its departments, agencies, or entities, its officers, employees, or agents, or any other person.

(b) You are authorized and directed to publish this memorandum in the Federal Register.

THE WHITE HOUSE,

Washington, October 17, 2014.

[FR Doc. 2014-25568

Filed 10-23-14; 11:15 am]

Billing code 4191-02